DEPARTMENT OF LABOR

Employment and Training Administration

[TA-W-54,505]

Tri-Star Precision, Inc., Gilberts, IL; Notice of Termination of Investigation

Pursuant to section 221 of the Trade Act of 1974, as amended, an investigation was initiated on March 16, 2004, in response to a petition filed on behalf of workers at Tri-Star Precision, Inc., Gilberts, Illinois.

The petition regarding the investigation has been deemed invalid. Consequently, the investigation has been terminated.

Signed in Washington, DC this 6th day of April, 2004.
Linda G. Poole,
Certifying Officer, Division of Trade Adjustment Assistance.

[FR Doc. E4-1008 Filed 5-3-04; 8:45 am]

BILLING CODE 4510-13-P